OFFICE OF THE UNITED STATES TRADE REPRESENTATIVE

Generalized System of Preferences (GSP); Deadline for Submission of Petitions for the 2000 Annual Country Eligibility Practices Review

AGENCY: Office of the United States Trade Representative.

ACTION: Notice of the 2000 Annual GSP Country Eligibility Practices Review and Cancellation of the 2000 Annual GSP Product Review.

SUMMARY: The deadline for the submission of petitions for the 2000 Annual GSP Country Eligibility Practices Review is 5 p.m., Monday, August 21, 2000.

FOR FURTHER INFORMATION CONTACT: GSP Subcommittee, Office of the United States Trade Representative, 600 17th Street, NW., Room 518, Washington, DC 20508. The telephone number is (202) 395-6971.

SUPPLEMENTARY INFORMATION:

Announcement of 2000 Annual GSP Country Eligibility Practices Review and Cancellation of 2000 Annual GSP Product Review

The GSP regulations (15 CFR Part 2007) provide the schedule of dates for conducting an annual review unless otherwise specified by a Federal Register notice. Notice is hereby given that, in order to be considered in the 2000 Annual GSP Country Eligibility Practices Review, all petitions to review the GSP status of any beneficiary developing country must be received by the GSP Subcommittee of the Trade Policy Staff Committee no later than 5 p.m., Monday, August 21, 2000. Petitions submitted after the deadline will not be considered for review and will be returned to the petitioner.

Notice also is hereby given that the 2000 Annual GSP Product Review is canceled due to the extraordinary work that is required to conduct an accelerated review of products eligible to be designated under GSP for beneficiaries of the Africa Growth and Opportunity Act.

The GSP provides for the duty-free importation of designated articles when imported from designated beneficiary developing countries. The GSP is authorized by title V of the Trade Act of 1974 (19 U.S.C. 2461 et seq.), as amended (the “Trade Act”), and is implemented in accordance with Executive Order 11888 of November 24, 1975, as modified by subsequent Executive Orders and Presidential Proclamations.

A. 2000 GSP Annual Country Eligibility Practices Review

Interested parties may submit petitions to have the GSP status of any eligible beneficiary developing country reviewed with respect to any of the designation criteria listed in sections 502(b) or 502(c) of the Trade Act (19 U.S.C. 2462(b) and (c)). Such petitions must comply with the requirements of 15 CFR 2007.01(b).

B. Submission of Petitions and Requests

Petitions to modify GSP treatment should be addressed to GSP Subcommittee, Office of the U.S. Trade Representative, 600 17th Street, NW., Room 518, Washington, DC 20508. An original and fourteen (14) copies of each petition must be submitted in English. If the petition contains business confidential information, an original and fourteen (14) copies of a nonconfidential version of the submission along with an original and fourteen (14) copies of the business confidential version must be submitted. In addition, the submission containing business confidential information should be clearly marked “business confidential” at the top and bottom of each and every page of the submission. Petitions submitted as “business confidential” must conform to 15 CFR 2003.6 and other qualifying information submitted in confidence must conform to 15 CFR 2007.7. The version that does not contain business confidential information (the public version) should also be clearly marked at the top and bottom of each (either page “public version” or “nonconfidential”).

Only the public versions of the submissions will be available for public inspection and only by appointment. Appointments to review petitions may be made by contacting Ms. Brenda Webb (Tel. 202/395-6186) of the USTR Public Reading Room. The hours of the Reading Room are 9:30 a.m. to 12 noon and 1:00 p.m. to 4 p.m., Monday through Friday.

Jon Rosenbaum,
Assistant U.S. Trade Representative for Trade and Development.

[FR Doc. 00-16873 Filed 7-3-00; 8:45 am]

BILLING CODE 3901-01-M